OFFICE OF MANAGEMENT AND BUDGET

Proposed OMB Circular No. A-4 Modernization—Extension of Public Comment Period

AGENCY: Office of Information and Regulatory Affairs, Office of Management and Budget, Executive Office of the President.

ACTION: Notice of extension of public comment period.

SUMMARY: On April 7, 2023, the Office of Management and Budget (OMB) published a notice entitled “Request for Comments on Proposed OMB Circular No. A-4, `Regulatory Analysis.'” OMB is extending the public comment period announced in that notice, which currently closes on June 6, 2023, by 14 days. The comment period will now remain open until June 20, 2023, to allow additional time for the public to review and comment on the initial proposals.

DATES: With the extension provided by this notice, comments on the proposed Circular No. A-4, “Regulatory Analysis,” published April 7, 2023, at 88 FR 20915, must be provided in writing to OMB no later than June 20, 2023, to ensure consideration during the final decision-making process.

ADDRESSES: The proposed Circular itself is available at https://www.whitehouse.gov/wp-content/uploads/2023/04/DraftCircularA-4.pdf. A preamble to the proposed Circular is available at https://www.whitehouse.gov/wp-content/uploads/2023/04/DraftCircularA-4Preamble.pdf.

Please submit comments via https://www.regulations.gov, a Federal website that allows the public to find, review, and submit comments on documents that agencies have published in the Federal Register and that are open for comment. Simply type “OMB-2022-0014” in the Comment or Submission search box, click Go, and follow the instructions for submitting comments. All comments received will be posted to https://www.regulations.gov, so commenters should not include information they do not wish to be posted (e.g., personal or confidential business information).

Electronic Availability: This document is available on the internet at https://www.regulations.gov.

FOR FURTHER INFORMATION CONTACT: Office of Management and Budget, Office of Information and Regulatory Affairs, at MBX.OMB.OIRA.A4Modernization@omb.eop.gov.

SUPPLEMENTARY INFORMATION: Rationale: Based on consideration of requests received from stakeholders, which are available for the public to view in the docket on www.regulations.gov for OMB's April 7, 2023 notice, OMB is extending the public comment period announced in that notice for an additional 14 days. Therefore, the public comment period will close on June 20, 2023.

Docket: OMB has established a docket for the April 7, 2023 notice under Docket ID No. OMB-2022-0014.

Richard L. Revesz,
Administrator, Office of Information and Regulatory Affairs.

[FR Doc. 2023-12231 Filed 6-5-23; 4:15 pm]

BILLING CODE 3110-01-P